NATIONAL AERONAUTICS AND SPACE ADMINISTRATION

[Notice (19-067)]

Performance Review Board, Senior Executive Service (SES)

AGENCY: National Aeronautics and Space Administration (NASA).

ACTION: Notice of Membership of SES Performance Review Board.

SUMMARY: The Civil Service Reform Act of 1978, requires that appointments of individual members to the Performance Review Board (PRB) be published in the Federal Register.

The performance review function for the SES in NASA is being performed by the NASA PRB.

SUPPLEMENTARY INFORMATION: The following individuals are serving on the Board:

Performance Review Board

Chairperson, Associate Administrator, NASA Headquarters

Chair, Executive Resources Board, NASA Headquarters

Deputy Associate Administrator, NASA Headquarters

Associate Administrator for Mission Support Directorate, NASA Headquarters

Associate Administrator for Diversity and Equal Opportunity, NASA Headquarters

Associate Administrator for Aeronautics Research Mission Directorate, NASA Headquarters

Center Director, NASA Ames Research Center

Cheryl Parker,
Federal Register Liaison Officer.

[FR Doc. 2019-22508 Filed 10-15-19; 8:45 am]

BILLING CODE 7510-13-P